DEPARTMENT OF JUSTICE

Notice of Lodging of Consent Decree Under the Comprehensive Environmental Response, Compensation, and Liability Act and the Resource Conservation and Recovery Act

Notice is hereby given that on August 10, 2007, a proposed Consent Decree (the “Consent Decree” in United States v. BFI Waste Systems of North America, Inc. et at., Civil Action No. 07 C 4499, was lodged with the United States District Court for the Northern District of Illinois.

In this action the United States sought, pursuant to sections 106 and 107 of the Comprehensive Environmental Response, Compensation, and Liability Act (“CERCLA”), 42 U.S.C. 9606 and 9607, injunctive relief and the recovery of cost incurred by the United States in responding to a release or threat of hazardous substances at or from the Wauconda Sand and Gravel Superfund Site (the “Site”) located in Lake County, Illinois, at or near to the Village of Wauconda. Under the proposed Consent Decree, the settling defendants will complete the connection of over 400 homes to the Village of Wauconda's municipal water works, expand the Village's municipal water works to accommodate the increased demand, perform operation and maintenance at the Site, and conduct groundwater monitoring activities. The proposed Consent Decree also requires the Settling Defendants to pay past and future response costs incurred by the United States relating to the Site. In addition, the proposed Consent Decree also includes a covenant not to sue under sections 106 and 107 of CERCLA and under section 7003 of the Resource Conservation and Recovery Act (“RCRA”), 42 U.S.C. 6973.

The Department of Justice will receive for a period of thirty (30) days from the date of this publication comments relating to the Consent Decree. Comments should be addressed to the Assistant Attorney General, Environment and Natural Resources Divisions, and either e-mailed to pubcomment-ess.enrd@usdoj.gov or mailed to P.O. Box 7611, U.S. Department of Justice, Washington, DC 20044-7611, and should refer to United States v. BFI Waste Systems of North America, Inc. et al., D.J. Ref. No. 90-11-2-153/1. Commenters may request an opportunity for a public meeting in the affected area, in accordance with section 7003(d) of RCRA, 42 U.S.C. 973(d).

The Consent Decree may be examined at the Office of the United Stated Attorney, 219 South Dearborn Street, Chicago, Illinois 60604, and at U.S. EPA Region 5, 77 West Jackson Blvd., Chicago, Illinois 60604. During the public comment period, the Cons net Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax No. (202) 514-0097, phone confirmation number (202) 514-1547. In requesting a copy from the Consent Decree Library, please enclose a check in the amount of $37 (25 cents per page reproduction cost) payable to the U.S. Treasury or, if by E-mail or fax, forward a check in that amount to the Consent Decree Library at the stated address. In requesting a copy exclusive of exhibits and defendant's signatures, please enclose a check in the amount of $18.25 (25 cents per page reproduction cost) payable to the U.S. Treasury.

William D. Brighton,
Assistant Chief, Environmental Enforcement Section, Environment and Natural Resources Division.

[FR Doc. 07-4119 Filed 8-22-07; 8:45 am]

BILLING CODE 4410-15-M